FEDERAL MARITIME COMMISSION

[Docket No. 14-02]

Order of Investigation and Hearing: Oceanic Bridge International, Inc. for Possible Violations of the Shipping Act of 1984

AGENCY: Federal Maritime Commission.

ACTION: Notice of Order of Investigation and Hearing.

DATES: The Order of Investigation and Hearing was served February 21, 2014.

SUPPLEMENTARY INFORMATION: On February 21, 2014, the Federal Maritime Commission instituted an Order of Investigation and Hearing entitled Oceanic Bridge International, Inc.—Possible Violations of Section 10(a)(1) of the Shipping Act of 1984. Acting pursuant to Section 11 of the Shipping Act, 46 U.S.C. 41302, that investigation is instituted to determine:

(1) Whether Oceanic Bridge International, Inc. violated section 10(a)(1) of the Shipping Act, 46 U.S.C. 41102(a), by knowingly and willfully, directly or indirectly, obtaining or attempting to obtain transportation at less than the rates and charges otherwise applicable by the unjust or unfair device or means of unlawfully accessing a service contract to which it was neither a signatory nor an affiliate; and,

(2) whether, in the event violations of section 10(a)(1) of the Shipping Act are found, civil penalties should be assessed against Oceanic Bridge International, Inc. and, if so, the amount of the penalties to be assessed.

The Order may be viewed in its entirety at http://www.fmc.gov/14-02.

Authority: 46 U.S.C. 41302.

Karen V. Gregory,
Secretary.

[FR Doc. 2014-04299 Filed 2-27-14; 8:45 am]

BILLING CODE 6730-01-P